NATIONAL ARCHIVES AND RECORDS ADMINISTRATION

Office of Government Information Services

[NARA-2019-013]

Freedom of Information Act (FOIA) Advisory Committee; Meeting

AGENCY: National Archives and Records Administration (NARA).

ACTION: Notice of Federal Advisory Committee meeting.

SUMMARY: We are announcing an upcoming Freedom of Information Act (FOIA) Advisory Committee meeting in accordance with the Federal Advisory Committee Act and the second United States Open Government National Action Plan.

DATES: The meeting will be on March 20, 2019, from 10:00 a.m. to 1:00 p.m. EDT. You must register for the meeting by midnight EDT March 17, 2019.

Location: National Archives and Records Administration (NARA); 700 Pennsylvania Avenue NW; William G. McGowan Theater; Washington, DC 20408.

FOR FURTHER INFORMATION CONTACT: Kirsten Mitchell, Designated Federal Officer for this committee, by mail at National Archives and Records Administration, Office of Government Information Services, 8601 Adelphi Road—OGIS; College Park, MD 20740-6001, by telephone at 202-741-5770, or by email at foia-advisory-committee@nara.gov.

SUPPLEMENTARY INFORMATION:

Agenda and meeting materials: This is the third meeting of the third committee term. The Committee will hear academic research about FOIA and review the work of the committee's three subcommittees, working on records management, FOIA vision, and time/volume. We will post meeting materials online at https://www.archives.gov/ogis/foia-advisory-committee/2018-2020-term/meetings.

Procedures: The meeting is open to the public. Due to building access restrictions, you must register through Eventbrite in advance if you wish to attend. You will also go through security screening when you enter the building. To register, use this link: https://foia-advisory-committee-meeting.eventbrite.com. We will also live-stream the meeting on the National Archives' YouTube channel at https://www.youtube.com/user/usnationalarchives, and include a captioning option. To request additional accommodations (e.g., a transcript), email foia-advisory-committee@nara.gov or call 202-741-5770. Members of the media who wish to register, those who are unable to register online, and those who require special accommodations, should contact Kirsten Mitchell (contact information listed above).

Miranda J. Andreacchio,
Committee Management Officer.

[FR Doc. 2019-02407 Filed 2-14-19; 8:45 am]

BILLING CODE 7515-01-P